DEPARTMENT OF HEALTH AND HUMAN SERVICES

Administration for Children and Families

Proposed Information Collection Activity; Comment Request

Proposed Project:

Title: Tracking of Participants in the Head Start Impact Study.

OMB No.: 0970-0229.

Description: The Administration for Children and Families (ACF) within the Department of Health and Human Services (HHS) will collect follow-up information from children and families in the Head Start Impact Study. In anticipation of conducting an 8th grade follow-up for the study, ACF will collect information necessary to identify respondents' current location and follow-up with respondents in the future.

The Head Start Impact Study is a longitudinal study involving approximately 5,000 first time enrolled three- and four-year-old preschool children across 84 nationally representative grantee/delegate agencies. Participants have been randomly assigned to either a Head Start group or a control group. Data collection for the study began in fall of 2002 and has been extended through late spring 2008 to include the participants' 3rd grade year.

ACF will continue to examine outcomes for the sample through the spring of the participant's 8th grade year. To maintain adequate sample size, telephone interviews will be conducted in order to update the respondent's location and contact information. This information will be collected from parents or guardians in the spring of 2009, 2010, and 2011. A small set of additional items will provide information on the parents' perception of the children's well-being.

Respondents: Treatment and control group members in the Head Start Impact Study.

Annual Burden Estimates
Instrument | Number of respondents | Number of responses per respondent | Average buden hours per response | Total burden hours
Tracking Interview | 4,667 | 1 | .25 | 1,167
Estimated Total Annual Burden Hours |  |  |  | 1,167

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447. Attn: ACF Reports Clearance Officer. E-mail address: OPREInfoCollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: March 31, 2008.
Brendan C. Kelly,
OPRE Reports Clearance Officer.

[FR Doc. E8-7138 Filed 4-4-08; 8:45 am]

BILLING CODE 4184-01-M